DEPARTMENT OF TRANSPORTATION

Federal Aviation Administration

14 CFR Part 39

[Docket No. FAA-2013-0980; Directorate Identifier 2013-NM-129-AD; Amendment 39-17891; AD 2014-13-15]

RIN 2120-AA64

Airworthiness Directives; EADS CASA (Type Certificate Previously Held by Construcciones Aeronauticas, S.A.) Airplanes

AGENCY: Federal Aviation Administration (FAA), Department of Transportation (DOT).

ACTION: Final rule.

SUMMARY: We are adopting a new airworthiness directive (AD) for certain EADS CASA (Type Certificate Previously Held by Construcciones Aeronauticas, S.A.) Model CN-235-300 airplanes. This AD was prompted by reports of reduced thickness of the center fuselage lower skin panel. This AD requires a detailed inspection to determine the presence of panel thickness reduction; and repetitive nondestructive testing (NDT) inspections and repair if necessary. We are issuing this AD to detect and correct reduced thickness of lower panel joints, which could result in reduced fatigue and damage tolerant characteristics of the lower panel joint to the adjacent side panels and failure of the center fuselage lower skin panel, resulting in loss of control of the airplane.

DATES: This AD becomes effective August 19, 2014.

The Director of the Federal Register approved the incorporation by reference of a certain publication listed in this AD as of August 19, 2014.

ADDRESSES: You may examine the AD docket on the Internet at http://www.regulations.gov/#!docketDetail;D=FAA-2013-0980; or in person at the Docket Management Facility, U.S. Department of Transportation, Docket Operations, M-30, West Building Ground Floor, Room W12-140, 1200 New Jersey Avenue SE., Washington, DC.

For service information identified in this AD, contact EADS-CASA, Military Transport Aircraft Division (MTAD), Integrated Customer Services (ICS), Technical Services, Avenida de Aragón 404, 28022 Madrid, Spain; telephone +34 91 585 55 84; fax +34 91 585 55 05; email MTA.TechnicalService@casa.eads.net; Internet http://www.eads.net. You may view this referenced service information at the FAA, Transport Airplane Directorate, 1601 Lind Avenue SW., Renton, WA. For information on the availability of this material at the FAA, call 425-227-1221.

FOR FURTHER INFORMATION CONTACT: Shahram Daneshmandi, Aerospace Engineer, International Branch, ANM-116, Transport Airplane Directorate, FAA, 1601 Lind Avenue SW., Renton, Washington 98057-3356; telephone 425-227-1112; fax 425-227-1149.

SUPPLEMENTARY INFORMATION:

Discussion

We issued a notice of proposed rulemaking (NPRM) to amend 14 CFR part 39 by adding an AD that would apply to certain EADS CASA (Type Certificate Previously Held by Construcciones Aeronauticas, S.A.) Model CN-235-300 airplanes. The NPRM published in the Federal Register on December 9, 2013 (78 FR 73742).

The European Aviation Safety Agency (EASA), which is the Technical Agent for the Member States of the European Community, has issued EASA Airworthiness Directive 2013-0131, dated June 25, 2013 (referred to after this as the Mandatory Continuing Airworthiness Information, or “the MCAI”), to correct an unsafe condition for the specified products. The MCAI states:

During delivery of a spare centre fuselage lower skin panel to a CN-235 aeroplane operator, a reduced thickness of the spare panel was identified. The affected panel is used as the lower part of the fuselage between Frame (FR) FR13 and FR21, and from Stringer (STR) 24 left hand (LH) side to STR24 right hand (RH) side. Several CN-235 aeroplanes could have been delivered with a reduced thickness panel.

This condition, if not detected and corrected, could result in reduced fatigue and damage tolerant characteristics of the lower panel joint to the adjacent side panels and lead to failure of the part.

To address this potentially unsafe condition, EADS-CASA issued All Operator Letter (AOL) 235-024 to provide instructions to determine correct centre fuselage lower panel configuration by accomplishing a detailed visual inspection (DVI) of affected fuselage area [for any cracking].

For the reason described above, this [EASA] AD requires a one-time inspection of the affected panel thickness at STR24 LH and STR24 RH. In case a nonconforming panel is found to be installed, this [EASA] AD requires repetitive Non Destructive Testing (NDT) inspections and, depending on findings, the accomplishment of applicable corrective action(s).

You may examine the MCAI in the AD docket on the Internet at http://www.regulations.gov/#!documentDetail;D=FAA-2013-0980-0003.

Comments

We gave the public the opportunity to participate in developing this AD. We received no comments on the NPRM (78 FR 73742, December 9, 2013) or on the determination of the cost to the public.

“Contacting the Manufacturer” Paragraph in This AD

Since late 2006, we have included a standard paragraph titled “Airworthy Product” in all MCAI ADs in which the FAA develops an AD based on a foreign authority's AD.

The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (78 FR 73742, December 9, 2013), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include a design approval holder (DAH) with State of Design Authority design organization approval (DOA), as applicable, to refer to a DAH authorized to approve required repairs for the proposed AD.

No comments were provided to the NPRM (78 FR 73742, December 9, 2013) about these proposed changes. However, a comment was provided for another NPRM, Directorate Identifier 2012-NM-101-AD (78 FR 78285, December 26, 2013). The commenter stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed that paragraph and retitled it “Contacting the Manufacturer.” This paragraph now clarifies that for any requirement in this AD to obtain corrective actions from a manufacturer, the action must be accomplished using a method approved by the FAA, the European Aviation Safety Agency (EASA), or Airbus's EASA DOA. Where necessary throughout this AD, we also replaced any reference to approvals of corrective actions with a reference to the Contacting the Manufacturer paragraph.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Other commenters to the NPRM discussed previously, Directorate Identifier 2012-NM-101-AD (78 FR 78285, December 26, 2013), pointed out that in many cases the foreign manufacturer's service bulletin and the foreign authority's MCAI might have been issued some time before the FAA AD. Therefore, the DOA might have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed the requirement that the DAH-provided repair specifically refer to this AD. Before adopting such a requirement, the FAA will coordinate with affected DAHs and verify they are prepared to implement means to ensure that their repair approvals consider the unsafe condition addressed in this AD. Any such requirements will be adopted through the normal AD rulemaking process, including notice-and-comment procedures, when appropriate. We also have decided not to include a generic reference to either the “delegated agent” or “DAH with State of Design Authority design organization approval,” but instead we have provided the specific delegation approval granted by the State of Design Authority for the DAH throughout this AD.

Explanation of Additional Change Made to This AD

We have revised the manufacturer's name from EADS CASA to Airbus Military for All Operator Letter (AOL) 235-024, dated March 1, 2013, referenced in this AD. This change is necessary to adhere to the Office of the Federal Register's requirements for materials incorporated by reference.

Conclusion

We reviewed the relevant data and determined that air safety and the public interest require adopting this AD with the changes described previously and minor editorial changes. We have determined that these minor changes:

• Are consistent with the intent that was proposed in the NPRM (78 FR 73742, December 9, 2013) for correcting the unsafe condition; and

• Do not add any additional burden upon the public than was already proposed in the NPRM (78 FR 73742, December 9, 2013).

We also determined that these changes will not increase the economic burden on any operator or increase the scope of this AD.

Costs of Compliance

We estimate that this AD affects 20 airplanes of U.S. registry.

Estimated Costs
Action | Labor cost | Parts cost | Cost per product | Cost on U.S. operators
Detailed visual inspection | 1 work-hour × $85 per hour = $85 | N/A | $85 | $1,700.
NDT inspections | 19 work-hours × $85 per hour = $1,615 per inspection cycle | N/A | $1,615 per inspection cycle | $32,300 per inspection cycle.

We have received no definitive data that enabled us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-0980; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-13-15 EADS CASA (Type Certificate Previously Held by Construcciones Aeronauticas, S.A.): Amendment 39-17891. Docket No. FAA-2013-0980; Directorate Identifier 2013-NM-129-AD.

(a) Effective Date

This AD becomes effective August 19, 2014.

(b) Affected ADs

None.

(c) Applicability

This AD applies to EADS CASA (Type Certificate previously held by Construcciones Aeronauticas, S.A.) Model CN-235-300 airplanes, certificated in any category, manufacturer serial numbers (MSN) C-143 through C-208, inclusive.

(d) Subject

Air Transport Association (ATA) of America Code 53, Fuselage.

(e) Reason

This AD was prompted by reports of reduced thickness of the center fuselage lower skin panel. We are issuing this AD to detect and correct a reduced thickness of lower panel joints, which could result in reduced fatigue and damage tolerant characteristics of the lower panel joint to the adjacent side panels and lead to failure of the center fuselage lower skin panel, resulting in loss of control of the airplane.

(f) Compliance

Comply with this AD within the compliance times specified, unless already done.

(g) Detailed Visual Inspection

For airplanes having MSNs C-143 through C-195 inclusive, C-201, and C-202: At the applicable time specified in paragraph (g)(1) or (g)(2) of this AD, do a detailed inspection to determine the presence of panel thickness reduction of the lower panel joint with the side panels at stringer (STR) 24 left-hand and STR24 right-hand, in accordance with Airbus Military All Operator Letter (AOL) 235-024, Revision 01, dated March 1, 2013.

(1) For airplane versions CG01, CL04, ED01, GC01, MM01, and SM01: Inspect at the later of the times specified in paragraphs (g)(1)(i) and (g)(1)(ii) of this AD.

(i) Before the accumulation of 1,900 total flight cycles.

(ii) Within 10 flight cycles or 30 days after the effective date of this AD, whichever occurs first.

(2) For any airplane version not identified in paragraph (g)(1) of this AD: Inspect at the later of the times specified in paragraphs (g)(2)(i) and (g)(2)(ii) of this AD.

(i) Before the accumulation of 3,800 total flight cycles.

(ii) Within 10 flight cycles or 30 days after the effective date of this AD, whichever occurs first.

(h) Repetitive Nondestructive Testing (NDT) Inspections

(1) For airplanes having MSNs C-196 through C-200 inclusive and C-203 through C-208 inclusive, and for airplanes with a reduced panel thickness identified during the inspection required by paragraph (g) of this AD: At the applicable time specified in paragraph (g)(1)(i) of this AD (for airplanes identified in paragraph (g)(1) of this AD), or paragraph (g)(2)(i) of this AD (for airplanes identified in paragraph (g)(2) of this AD), or within 50 flight cycles after the effective date of this AD, whichever occurs later, do an NDT inspection for cracking, in accordance with Airbus Military AOL 235-024, Revision 01, dated March 1, 2013. Repeat the inspection thereafter at the applicable time specified in paragraph (h)(1)(i) or (h)(1)(ii) of this AD.

(i) For airplane versions CG01, CL04, ED01, GC01, MM01, and SM01: Inspect at intervals not to exceed 1,000 flight cycles.

(ii) For airplane versions other than those identified in paragraph (h)(1)(i) of this AD: Inspect at intervals not to exceed 2,000 flight cycles.

(2) If any cracking is detected during the inspection required by paragraph (h)(1) of this AD, before further flight, repair using a method approved in accordance with the procedures specified in paragraph (j)(2) of this AD.

(i) Credit for Previous Actions

This paragraph provides credit for the inspections required by paragraphs (g) and (h)(1) of this AD, if those actions were performed before the effective date of this AD using Airbus Military AOL 235-024, dated February 12, 2013.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, Washington 98057-3356; telephone 425-227-1112; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or EADS CASA's EASA Design Organization Approval (DOA). If approved by the DOA, the approval must include the DOA-authorized signature.

(k) Related Information

(1) Refer to Mandatory Continuing Airworthiness Information (MCAI) EASA Airworthiness Directive 2013-0131, dated June 25, 2013, for related information. This MCAI may be found in the AD docket on the Internet at http://www.regulations.gov/#!documentDetail;D=FAA-2013-0980-0003.

(2) Service information identified in this AD that is not incorporated by reference may be viewed at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Military All Operator Letter 235-024, Revision 01, dated March 1, 2013.

(ii) Reserved.

(3) For service information identified in this AD, contact EADS-CASA, Military Transport Aircraft Division (MTAD), Integrated Customer Services (ICS), Technical Services, Avenida de Aragón 404, 28022 Madrid, Spain; telephone +34 91 585 55 84; fax +34 91 585 55 05; email MTA.TechnicalService@casa.eads.net; Internet http://www.eads.net.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 25, 2014.
Jeffrey E. Duven,
Manager, Transport Airplane Directorate, Aircraft Certification Service.

[FR Doc. 2014-15804 Filed 7-14-14; 8:45 am]

BILLING CODE 4910-13-P